DEPARTMENT OF DEFENSE

Department of the Army, Corps of Engineers

Notice of Intent To Prepare an Environmental Impact Statement (EIS) for the White River Minimum Flow Study, Arkansas and Missouri

Correction

In notice document 00-13345 appearing on page 34453 in the issue of Tuesday, May 30, 2000, make the following corrections:

1. In the second column, in the SUPPLEMENTARY INFORMATION section, in the third paragraph, in the sixth line, “Norfok” should read “Norfork”.

2. In the same column, in the fourth paragraph, in the ninth line,“dish” should read “fish”.

[FR Doc. C0-13345 Filed 6-7-00; 8:45 am]

BILLING CODE 1505-01-D

DEPARTMENT OF ENERGY

Western Area Power Administration

2005 Resource Pool

Correction

In notice document 00-13967, beginning on page 35630, in the issue of Monday, June 5, 2000, make the following corrections:

1. On page 35631, in the table, under the heading, 500 MW (MW), in the second line, “1.100” should read “1.105”.

2. On page 35631, in the table, under the heading 1000 MW (MW), in the second line, “52.210” should read “2.210”.

[FR Doc. C0-13967 Filed 6-7-00; 8:45 am]

BILLING CODE 1505-01-D

DEPARTMENT OF HEALTH AND HUMAN SERVICES

Food and Drug Administration

[Docket No. 96M-0311]

Agency Information Collection Activities; Proposed Collection; Comment Request

Correction

In notice document 00-13340 beginning on page 34196 in the issue of Friday, May 26, 2000, make the following correction:

On page 34196, in the second column, in the DATES section,“July 25, 2002” should read “July 25, 2000”.

[FR Doc. C0-13340 Filed 6-7-00; 8:45 am]

BILLING CODE 1505-01-D